CONSUMER PRODUCT SAFETY COMMISSION

[Docket No. CPSC-2012-0054]

Agency Information Collection Activities; Submission for OMB Review; Comment Request; Safety Standard for Automatic Residential Garage Door Operators

AGENCY: Consumer Product Safety Commission.

ACTION: Notice.

SUMMARY: As required by the Paperwork Reduction Act of 1995, the Consumer Product Safety Commission (CPSC, or Commission) announces that the Commission has submitted to the Office of Management and Budget (OMB) a request for extension of approval for information collection requirements regarding notifications under the safety standard for automatic residential garage door operators. OMB previously approved the collection of information under OMB Control No. 3041-0125. On May 5, 2022, CPSC published a notice in the Federal Register to announce the agency's intention to seek extension of approval of the collection of information. The Commission received no comments. Therefore, by publication of this notice, the Commission announces that CPSC has submitted to the OMB a request for extension of approval of this collection of information.

DATES: Submit written or electronic comments on the collection of information by August 15, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2012-0054.

FOR FURTHER INFORMATION CONTACT: Cynthia Gillham, Consumer Product Safety Commission, 4330 East West Highway, Bethesda, MD 20814; (301) 504-7991, or by email to: cgillham@cpsc.gov.

SUPPLEMENTARY INFORMATION: On May 5, 2022, CPSC published a notice in the Federal Register to announce the agency's intention to seek extension of approval of the collection of information. 87 FR 26738. The Commission received no comments. Accordingly, CPSC seeks renewal approval for the following collection of information:

Title: Safety Standard for Automatic Residential Garage Door Operators.

OMB Number: 3041-0125.

Type of Review: Renewal of collection.

Frequency of Response: On occasion.

Affected Public: Manufacturers and importers of automatic residential garage door operators.

Estimated Number of Respondents: An estimated 17 firms that conduct performance tests and maintain records based on the test results to retain UL certification and verify compliance with the rule.

Estimated Time per Response: Based on staff's review of industry sources, each respondent will spend an estimated 40 hours annually on the collection of information related to the rule.

Total Estimated Annual Burden: 680 hours (17 firms × 40 hours).

General Description of Collection: On December 22, 1992, the Commission issued rules prescribing requirements for a reasonable testing program to support certificates of compliance with the Safety Standard for Automatic Residential Garage Door Operators (57 FR 60449). These regulations also require manufacturers, importers, and private labelers of residential garage door operators to establish and maintain records to demonstrate compliance with the requirements for testing to support certification of compliance. 16 CFR part 1211, subparts B and C.

Alberta E. Mills,
Secretary, Consumer Product Safety Commission.

[FR Doc. 2022-15048 Filed 7-13-22; 8:45 am]

BILLING CODE 6355-01-P